DEPARTMENT OF DEFENSE

Office of the Secretary

Notice of Meeting

AGENCY: Department of Defense (DoD) Medicare-Eligible Retiree Health Care Board of Actuaries.

ACTION: Notice of meeting.

SUMMARY: A meeting of the Board has been scheduled to execute the provisions of Chapter 56, Title 10, United States Code (10 U.S.C. 1111 et seq.). The Board shall review DoD actuarial methods and assumptions to be used in the valuation of benefits under DoD retiree health care programs for Medicare-eligible beneficiaries. Persons desiring to: (1) attend the DoD Medicare-Eligible Retiree Health Care Board of Actuaries meeting or, (2) make an oral presentation or submit a written statement for consideration at the meeting must notify Joel Sitrin at (703) 696-7412 by August 31, 2001.

Notice of this meeting is required under the Federal Advisory Committee Act.

DATES: September 14, 2001, 1:00 p.m. to 3:00 p.m.

ADDRESSES: Pentagon, Room 1E801.

FOR FURTHER INFORMATION CONTACT: Joel Sitrim, Deputy Chief Actuary, DoD Office of the Actuary, 1555 Wilson Boulevard, Suite 701, Arlington, VA 22209-2405, (703) 696-7412.

Dated: August 8, 2001.
L.M. Bynum,
Alternate OSD Federal Register Liaison Officer.

[FR Doc. 01-20368 Filed 8-13-01; 8:45 am]

BILLING CODE 5001-08-M